DEPARTMENT OF ENERGY

Federal Energy Regulatory Commission

Combined Notice of Filings #1

October 8, 2010.

Take notice that the Commission received the following electric rate filings:

Docket Numbers: ER10-2260-001.

Applicants: Cabrillo Power I LLC.

Description: Cabrillo Power I LLC submits tariff filing per 35: Cabrillo I—Amendment to Market-Based Rate Tariffs to be effective 10/11/2010.

Filed Date: 10/08/2010.

Accession Number: 20101008-5096.

Comment Date: 5 p.m. Eastern Time on Friday, October 29, 2010.

Docket Numbers: ER10-2261-001.

Applicants: Cabrillo Power II LLC.

Description: Cabrillo Power II LLC submits tariff filing per 35: Cabrillo Power II—Amendment to Market-Based Rate Tariffs to be effective 10/11/2010.

Filed Date: 10/08/2010.

Accession Number: 20101008-5099.

Comment Date: 5 p.m. Eastern Time on Friday, October 29, 2010.

Docket Numbers: ER10-2263-001.

Applicants: El Segundo Power II LLC.

Description: El Segundo Power II LLC submits tariff filing per 35: El Segundo Power II—Amendment to Market-Based Rate Tariffs to be effective 10/11/2010.

Filed Date: 10/08/2010.

Accession Number: 20101008-5111.

Comment Date: 5 p.m. Eastern Time on Friday, October 29, 2010.

Docket Numbers: ER10-2264-001.

Applicants: Long Beach Generation LLC.

Description: Long Beach Generation LLC submits tariff filing per 35: Long Beach Generation—Amendment to Market-Based Rate Tariffs to be effective 10/11/2010.

Filed Date: 10/08/2010.

Accession Number: 20101008-5118.

Comment Date: 5 p.m. Eastern Time on Friday, October 29, 2010.

Docket Numbers: ER11-29-000.

Applicants: Safe Harbor Water Power Corporation.

Description: Safe Harbor Water Power Corporation requests an extension of time until 11/1/10 to submit the baseline tariff filing of its cost-based rate etc.

Filed Date: 10/04/2010.

Accession Number: 20101004-0041.

Comment Date: 5 p.m. Eastern Time on Monday, October 25, 2010.

Docket Numbers: ER11-54-000.

Applicants: PacifiCorp.

Description: PacifiCorp submits tariff filing per 35.13(a)(2)(iii: Cedar Creek E&P Agreement to be effective 9/15/2010.

Filed Date: 10/07/2010.

Accession Number: 20101007-5131.

Comment Date: 5 p.m. Eastern Time on Thursday, October 28, 2010.

Docket Numbers: ER11-55-000.

Applicants: PacifiCorp.

Description: PacifiCorp submits tariff filing per 35.13(a)(2)(iii: Logan City Construction Agreement to be effective 12/7/2010).

Filed Date: 10/07/2010.

Accession Number: 20101007-5132.

Comment Date: 5 p.m. Eastern Time on Thursday, October 28, 2010.

Docket Numbers: ER11-56-000.

Applicants: Enjet, Inc.

Description: Enjet, Inc. submits tariff filing per 35.12: Baseline to be effective 10/7/2010.

Filed Date: 10/07/2010.

Accession Number: 20101007-5133.

Comment Date: 5 p.m. Eastern Time on Thursday, October 28, 2010.

Docket Numbers: ER11-57-000.

Applicants: Black Hills Power, Inc.

Description: Black Hills Power, Inc. submits its Spinning Reserve Service Agreement, to be effective 10/9/2010.

Filed Date: 10/08/2010.

Accession Number: 20101008-5002.

Comment Date: 5 p.m. Eastern Time on Friday, October 29, 2010.

Docket Numbers: ER11-60-000.

Applicants: PJM Interconnection, LLC.

Description: PJM Interconnection, LLC submits tariff filing per 35.13(a)(2)(iii: ISA No. 2654, T42, among PJM, PSEG Fossil and PSEG Company to be effective 9/17/2010.

Filed Date: 10/08/2010.

Accession Number: 20101008-5042.

Comment Date: 5 p.m. Eastern Time on Friday, October 29, 2010.

Docket Numbers: ER11-61-000.

Applicants: 3Degrees Group, Inc.

Description: 3Degrees Group, Inc. submits tariff filing per 35.12: 3Degrees FERC Electric MBR Filing to be effective 10/8/2010.

Filed Date: 10/08/2010.

Accession Number: 20101008-5077.

Comment Date: 5 p.m. Eastern Time on Friday, October 29, 2010.

Docket Numbers: ER11-64-000.

Applicants: Midwest Independent Transmission System Operator, Inc.

Description: Midwest Independent Transmission System Operator, Inc. submits tariff filing per 35.13(a)(2)(iii: 10-8-10 Attachment L Credit Cap Filing to be effective 12/8/2010.

Filed Date: 10/08/2010.

Accession Number: 20101008-5128.

Comment Date: 5 p.m. Eastern Time on Friday, October 29, 2010.

Docket Numbers: ER11-65-000.

Applicants: Capitol District Energy Center Cogeneration Associates.

Description: Capitol District Energy Center Cogeneration Associates submits tariff filing per 35.13(a)(2)(iii: Revised Market-Based Rate Tariff Filing to be effective 10/9/2010.

Filed Date: 10/08/2010.

Accession Number: 20101008-5129.

Comment Date: 5 p.m. Eastern Time on Friday, October 29, 2010.

Docket Numbers: ER11-66-000.

Applicants: Saguaro Power Company LP.

Description: Saguaro Power Company LP submits tariff filing per 35.12: Saguaro Power—Amendment to Market-Based Rate Tariffs to be effective 10/11/2010.

Filed Date: 10/08/2010.

Accession Number: 20101008-5130.

Comment Date: 5 p.m. Eastern Time on Friday, October 29, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-26370 Filed 10-19-10; 8:45 am]

BILLING CODE 6717-01-P